DEPARTMENT OF THE INTERIOR

Bureau of Land Management

[LLCAC06000.L16100000.DQ0000.LXSS095B0000]

Notice of Availability of the Proposed Bakersfield Resource Management Plan and Final Environmental Impact Statement, California

AGENCY: Bureau of Land Management.

ACTION: Notice of availability.

SUMMARY: In accordance with the National Environmental Policy Act of 1969, as amended (NEPA), and the Federal Land Policy and Management Act of 1976, as amended (FLPMA), the Bureau of Land Management (BLM) has prepared the Proposed Resource Management Plan (RMP) and Final Environmental Impact Statement (EIS) for the Bakersfield Field Office, California, and by this notice is announcing its availability.

DATES: BLM planning regulations state that any person who meets the conditions as described in the regulations may protest the Proposed RMP/Final EIS. A person who meets the conditions must file the protest within 30 days of the date that the Environmental Protection Agency publishes its Notice of Availability of the Proposed RMP/Final EIS in the Federal Register.

ADDRESSES: Copies of the Bakersfield Proposed RMP/Final EIS have been sent to affected Federal, State, and local agencies, Native American tribes, and to other interested parties. Copies of the Proposed RMP/Final EIS are available for public inspection at the Bakersfield Field Office (3801 Pegasus Drive, Bakersfield, California 93308) and California State Office (2800 Cottage Way, Sacramento, California 95825). Interested persons may also review the Proposed RMP/Final EIS on the Internet at: www.blm.gov/ca/bakersfield. All protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003-3503.

FOR FURTHER INFORMATION CONTACT: Sue Porter, Planning & Environmental Coordinator, Bakersfield Field Office, telephone: 661-391-6022; address: Bakersfield Field Office, 3801 Pegasus Drive, Bakersfield, California 93308; email: cacalrmp@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Proposed RMP/Final EIS addresses public land and resources managed by the Bakersfield Field Office in an eight-county, 17-million-acre region of central California in Kings, San Luis Obispo, Santa Barbara, Tulare, Ventura, Madera, eastern Fresno, and western Kern counties. Upon approval, this land use plan will replace the 1997 Caliente RMP and the 1984 Hollister RMP, as amended, and provide updated management decisions regarding recreation, transportation and access, renewable and traditional energy development, mineral resources, land use authorizations, livestock grazing, biological resources, special designations, lands with wilderness characteristics, and other resource uses and considerations on approximately 404,000 acres of public land and 1.2 million acres of Federal mineral estate. The Approved RMP will apply only to the BLM-administered public lands and Federal mineral estate in the planning area.

The Proposed RMP/Final EIS analyzes five management alternatives:

• The No Action alternative (Alternative A) would continue current management under the existing 1997 Caliente RMP and 1984 Hollister RMP, as amended.

• The Proposed Plan (Alternative B) strives to balance resource conservation and ecosystem health with the production of commodities and public use of the land.

• Alternative C emphasizes conserving cultural and natural resources, maintaining functioning natural systems, and restoring natural systems that are degraded.

• Alternative D follows Alternative C in all aspects except with regard to livestock grazing. Alternative D would eliminate livestock grazing from BLM managed lands in the planning area for the life of this land use plan.

• Alternative E emphasizes the production of natural resources and commodities while emphasizing public use opportunities.

The Proposed RMP/Final EIS would establish 18 Areas of Critical Environmental Concern, totaling approximately 99,500 acres, to provide special management for the protection of relevant and important biological, cultural, geologic, and paleontological resource values. The proposed plan would also apply protective management to approximately 3,470 acres of lands with wilderness characteristics in six different areas. Public lands available for energy development, land use authorizations, livestock grazing, systems of designated travel routes, and other uses would be provided for under the proposed plan, which would delineate and, as necessary, apply limitations on these uses. In addition, management parameters and prescriptions would be applied to a variety of natural and cultural resources, including air and atmospheric values, water quality, special status plant and animal species, and other components of the biological, physical, and cultural environment.

The land use planning process was initiated on March 4, 2008, through a Notice of Intent published in the Federal Register (73 FR 11661). A Notice of Availability of the Draft RMP/Draft EIS was published on September 9, 2011, in the Federal Register (76 FR 55941) to announce a 90-day public review and comment period. During that period, the BLM held public open-house meetings in Bakersfield, San Luis Obispo, Lake Isabella, Three Rivers, Taft, and Prather to assist the public in their review of the Draft RMP/Draft EIS and to solicit their comments. The Draft RMP/Draft EIS was sent to multiple Federal, State, and local government agencies and interested parties and was made publicly available for viewing at the Bakersfield Field Office, the California State Office, various public libraries, and on the Internet.

During the comment period, the Bakersfield Field Office received 274 written comment submissions from comment forms, which were completed during one of the public open-house meetings, as well as comment letters and emails. Each submission was carefully reviewed to identify substantive comments in accordance with the implementing regulations of NEPA (40 CFR 1503.4).

Comments on the Draft RMP/Draft EIS received from the public and internal BLM review were considered and incorporated as appropriate into the Proposed RMP/Final EIS. Public comments resulted in the addition of clarifying text and minor revisions, but did not significantly change the proposed land use plan decisions.

Instructions for filing a protest with the Director of the BLM regarding the Proposed RMP/Final EIS may be found in the “Dear Reader” letter of the Proposed RMP/Final EIS and at 43 CFR 1610.5-2. All protests must be in writing and mailed to the appropriate address, as set forth in the ADDRESSES section above. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct emails to Brenda_Hudgens-Williams@blm.gov and faxed protests to the attention of the BLM protest coordinator at 202-245-0028. Before including your address, phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, and 43 CFR 1610.5-2.

Thomas Pogacnik,
Deputy State Director, Natural Resources.

[FR Doc. 2012-21154 Filed 8-23-12; 4:15 pm]

BILLING CODE 4310-40-P